ENVIRONMENTAL PROTECTION AGENCY

[EPA-HQ-OPP-2007-1040; FRL-8405-4]

Capric (Decanoic) Acid Registration Review Final Decision; Notice of Availability

AGENCY: Environmental Protection Agency (EPA).

ACTION: Notice.

SUMMARY: This notice announces the availability of EPA's final registration review decision for the pesticide Capric (Decanoic) Acid, case 5038. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT: For pesticide specific information, contact: Eliza Blair, Antimicrobials Division (7510P), Office of Pesticide Programs, Environmental Protection Agency, 1200 Pennsylvania Ave., NW., Washington, DC 20460-0001; telephone number: (703) 308-7279; fax number: (703) 308--8481; e-mail address: blair.eliza@epa.gov.

For general information on the antimicrobials registration review program, contact: Diane Isbell, Antimicrobials Division (7510P), Office of Pesticide Programs, Environmental Protection Agency, 1200 Pennsylvania Ave., NW., Washington, DC 20460-0001; telephone number: (703) 308-8154; fax number: (703) 308-8481; e-mail address: isbell.diane@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How Can I Get Copies of this Document and Other Related Information?

1. Docket. EPA has established a docket for this action under docket identification (ID) number EPA-HQ-OPP-2007-1040. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Pursuant to 40 CFR 155.58(c), this notice announces the availability of EPA's final registration review decision for Capric (Decanoic) Acid, case 5038. Capric (Decanoic) Acid is an antimicrobial pesticide that is used as a food-contact surface sanitizer in commercial food handling establishments.

Pursuant to 40 CFR 155.57, a registration review decision is the Agency's determination whether a pesticide meets, or does not meet, the standard for registration in FIFRA. EPA has considered Capric (Decanoic) Acid in light of the FIFRA standard for registration. The Capric (Decanoic) Acid Final Decision document in the docket describes the Agency's rationale for issuing a registration review final decision for this pesticide.

In addition to the final registration review decision document, the registration review docket for Capric (Decanoic) Acid also includes other relevant documents related to the registration review of this case. The proposed registration review decision was posted to the docket and the public was invited to submit any comments or new information. During the 60-day comment period, no public comments were received.

Pursuant to 40 CFR 155.58(c), the registration review case docket for Capric (Decanoic) Acid will remain open until all actions required in the final decision have been completed.

Background on the registration review program is provided at: http://www.epa.gov/oppsrrd1/registration_review. Links to earlier documents related to the registration review of this pesticide are provided at: http://www.epa.gov/oppsrrd1/registration_review/capric_acid/index.htm.

B. What is the Agency's Authority for Taking this Action?

Section 3(g) of FIFRA and 40 CFR part 155, subpart C, provide authority for this action.

List of Subjects

Environmental protection, Registration review, Pesticides and pests, Capric (Decanoic) Acid, antimicrobials.

Dated: March 3, 2009.
Joan Harrigan Farrelly,
Director, Antimicrobials Division, Office of Pesticide Programs.

[FR Doc. E9-5754 Filed 3-17-09; 8:45 am]

BILLING CODE 6560-50-S